DEPARTMENT OF THE INTERIOR

Bureau of Land Management

[OR-110-0777-30-24-1A; HAGO-0346]

Notice of Temporary Travel Restrictions for Motorized and Non-Motorized Mechanized Vehicles in the Cascade-Siskiyou National Monument, Oregon.

SUMMARY: All motorized and non-motorized mechanized travel is temporarily prohibited on specific roads in the recently established Cascade-Siskiyou National Monument. The affected land is located southeast of Ashland, Oregon in Jackson County.

EFFECTIVE DATES: The restrictions will become effective September 1, 2000 and will remain in effect until completion of the Cascade-Siskiyou National Monument management plan. The planning process may result in a decision to maintain or modify this prohibition.

Discussion of the Restrictions: The roads affected by these restrictions are as follows: The Schoheim Road (#41-2E-10.1). The Randcore Pass Road (#40-4E-19.2) past the junction with road #40-4E,31.0. The Skookum Creek Road (#s 40-3E-28 and 40-3E-27.2) past the junction with road #40-3E-27.1 Road #41-2E-3.0 past the point where it crosses the Pacific Crest National Scenic Trail. Road #41-2E-9.0 past the barricade in T. 41 S., R. 2 E., Section 9, SW¼NW¼. The Lone Pine Ridge Road (#40-3E-31) past the block in T. 40 S., R. 3 E., Section 31. An unnumbered road which crosses the Oregon-California border, at the section line between Sections 7 and 18, T. 41 S., R. 4 E. An unnumbered road which crosses the Oregon-California border, at the south section line of Section 13, T. 41 S., R. 2 E.

Closure signs will be posted at the above locations. Maps of the closure area and information on the restrictions may be obtained from the Medford District Office.

This action is in accordance with the Presidential Proclamation dated June 9, 2000, which closed the Schoheim Road and directed the Secretary of the Interior to prepare a management plan that includes appropriate transportation planning. The plan will address actions, including road closures or travel restrictions, necessary to protect the objects identified in the proclamation. The temporary closure of the additional roads will protect those objects pending completion of the management plan.

Discussion of the Rules: These rules will apply to the public lands within the boundaries of the Cascade-Siskiyou National Monument, Oregon

Supplementary Rules for Cascade-Siskiyou National Monument

Under 43 CFR 8364 and 16 U.S.C. 431, the Bureau of Land Management will enforce the following rules on public land within the Cascade-Siskiyou National Monument.

1. You must not operate motorized or non-motorized mechanized vehicles on roads closed to that use.

Motorized and non-motorized vehicles include, but are not limited to: automobiles, off-road vehicles, motorcycles, all-terrain vehicles, bicycles, scooters and other wheeled vehicles.

Exemptions: Persons who are exempt from the prohibition include: (1) Any federal, state, or local officers engaged in fire, emergency and law enforcement activities; (2) BLM employees in official duties; (3) persons authorized to travel on designated routes by the Ashland Field Office Manager.

Penalties: The authority for this closure is found under section 303(a) of the Federal Land Policy and Management Act of 1976 (43 U.S.C. 1733(a) and 16 U.S.C. 431, any person who violates this restriction may be tried before a United States Magistrate and fined no more than $500. Such violations may also be subject to the enhanced fines provided for by 18 U.S.C. 3571.

ADDRESSES: Field Office Manager, Ashland Field Office, Bureau of Land Management, 3040 Biddle Road, Medford, Oregon 97504.

FOR FURTHER INFORMATION CONTACT: John Samuelson, (541) 618-2313.

Dated: August 18, 2000.
Richard J. Drehobl,
Ashland Field Office Manager.

[FR Doc. 00-22451 Filed 8-31-00; 8:45 am]

BILLING CODE 4310-33-M